DEPARTMENT OF COMMERCE

International Trade Administration

[A-489-805]

Notice of Rescission of Antidumping Duty Administrative Review: Certain Pasta from Turkey

AGENCY: Import Administration, International Trade Administration, Department of Commerce.

ACTION: Notice of Rescission of Antidumping Duty Administrative Review.

SUMMARY: On August 19, 2002, the Department of Commerce (the Department) initiated an administrative review of the antidumping duty order on certain pasta (pasta) from Turkey, covering the period July 1, 2001 through June 30, 2002, and one manufacturer/exporter of the subject merchandise, Filiz Gida Sanayi ve Ticaret (Filiz). See Initiation of Antidumping and Countervailing Duty Administrative Reviews and Requests for Revocation in Part, 67 FR 55000 (August 27, 2002). This review has now been rescinded due to Filiz's withdrawal of its request for an administrative review.

EFFECTIVE DATE: February 27, 2003.

FOR FURTHER INFORMATION CONTACT: Lyman Armstrong or Jim Neel, AD/CVD Enforcement, Office 6, Group II, Import Administration, International Trade Administration, U.S. Department of Commerce, 14th Street and Constitution Avenue, NW, Washington, DC 20230; telephone: (202) 482-3601 or (202) 482-4161, respectively.

SUPPLEMENTARY INFORMATION:

Background

On July 31, 2002, the Department received a letter from Filiz requesting an administrative review of the antidumping order on pasta from Turkey. On August 19, 2002, the Department initiated an administrative review of the antidumping order on pasta from Turkey for the period July 1, 2001 to June 30, 2002. On August 29, 2002, Filiz submitted a letter requesting to withdraw from the above referenced administrative review.

Scope of the Review

Imports covered by this review are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of this review are refrigerated, frozen, or canned pastas, as well as all forms of egg pasta, with the exception of non-egg dry pasta containing up to two percent egg white.

The merchandise subject to review is currently classifiable under item 1902.19.20 of the Harmonized Tariff Schedule of the United States (HTSUS). Although the HTSUS subheading is provided for convenience and Customs purposes, the written description of the merchandise subject to the order is dispositive.

Rescission of Administrative Review

Within 90 days of the August 27, 2002 notice of initiation, Filiz requested to withdraw from the above referenced administrative review. See Letter from Filiz to the Department dated August 29, 2002 on file in the Central Records unit, Room B-099, Main Building of the Department of Commerce.

In accordance with the Department's regulations, and consistent with its practice, the Department hereby rescinds the administrative review of pasta from Turkey for the period July 1, 2001 to June 30, 2002. See 19 CFR section 351.213(d)(1), which states in pertinent part: “The Secretary will rescind an administrative review under this section, in whole or in part, if a party that requested a review withdraws the request within 90 days of the date of publication of notice of initiation of the requested review.”

This notice is in accordance with section 751(a)(1) of the Tariff Act of 1930, as amended, and section 351.213(d) of the Department's regulations.

Dated: February 13, 2003.
Bernard Carreau,
Deputy Assistant Secretary for Import Administration.

[FR Doc. 03-4579 Filed 2-26-03; 8:45 am]

BILLING CODE 3510-DS-S